FEDERAL COMMUNICATIONS COMMISSION

Information Collection Being Submitted for Review and Approval to the Office of Management and Budget

AGENCY: Federal Communications Commission.

ACTION: Notice and Request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 18, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION: OMB Control Number: 3060-0139.

Title: Application for Antenna Structure Registration.

Form Number: FCC Form 854.

Type of Review: Revision of a currently approved collection.

Respondents: Individuals or households; business or other for-profit entities, not-for-profit institutions and state, local or tribal government.

Number of Respondents: 2,500 respondents; 47,500 responses.

Estimated Time per Response: .5 hours to 60 hours.

Frequency of Response: On occasion reporting requirement and recordkeeping requirement.

Obligation to Respond: Required to obtain or retain benefits. Statutory authority for this information collection is contained in sections 1, 2, 4(i), 303(q), 303(r), and 309(j) of the Communications Act of 1934, as amended, 47 U.S.C. 151, 152, 154(i), 303(q), 303(r), and 309(j), Section 102(C) of the National Environmental Policy Act of 1969, as amended, 42 U.S.C. 4332(C), and Section 1506.6 of the regulations of the Council on Environmental Quality, 40 CFR 1506.6.

Total Annual Burden: 21,345 hours.

Total Annual Cost: $975,725.

Privacy Impact Assessment: Yes. This information collection contains personally identifiable information on individuals which is subject to the Privacy Act of 1974. Information on the FCC Form 854 is maintained in the Commission's System of Records, FCC/WTB-1, “Wireless Services Licensing Records”. These licensee records are publicly available and routinely used in accordance of subsection b of the Privacy Act, 5 U.S.C. 552a(b), as amended. Taxpayer Identification Numbers (TINs) and materials that are afforded confidential treatment pursuant to a request made under 47 CFR 0.459 of the Commission's rules will not be available for public inspection.

Nature and Extent of Confidentiality: Respondents may request materials or information submitted to the Commission be withheld from public inspection under 47 CFR 0.459 of the Commission's rules.

The Commission has in place the following policy and procedures for records retention and disposal: Records will be actively maintained as long as the entity remains a tower owner. Paper records will be archived after being keyed or scanned into the Antenna Structure Registration (ASR) database and destroyed when twelve (12) years old; electronic records will be backed up and deleted twelve (12) years after the registration is no longer valid.

Needs and Uses: The Commission is seeking OMB approval for a revision of this information collection in order to obtain the full three year approval from OMB. There is no change to the Commission's previous burden estimates.

The purpose of the FCC Form 854 is to register antenna structures (radio towers) that are used for wire or radio communication services which are regulated by the Commission; to make changes to existing registered antenna structures or pending applications for registration; or to notify the Commission of the completion of construction or dismantlement of such structures, as required by Title 47 of the Code of Federal Regulations (CFR), Chapter 1, §§ 1.923, 1.1307, 1.1311, 17.1, 17.2, 17.4, 17.5, 17.6, 17.7, 17.57 and 17.58.

On December 9, 2011, the Commission adopted and released the Migratory Bird Order on Remand (Remand Order), WTB Docket Nos. 08-61 and 03-187, FCC 11-181, in response to the decision of the Court of Appeals for the District of Columbia Circuit in American Bird Conservancy v. FCC, 516 F.3d 1027 (DC Cir. 2008). The Court held that the Commission's current Antenna Structure Registration (ASR) procedures do not offer members of the public a meaningful opportunity to request an Environmental Assessment for proposed towers the Commission considers categorically excluded from review under the National Environment Policy Act (NEPA). To address the court's holding, the Remand Order adds a pre-application notification process to the ASR procedures so that members of the public will have a meaningful opportunity to comment on the environmental effects of proposed antenna structures that require registration with the Commission. The Remand Order also adopts an interim requirement to prepare Environmental Assessments for antenna structures that are over 450 feet in height.

The Commission is revising the FCC Form 854 to comply with the Remand Order by adding questions that will facilitate the pre-application notification process. In addition, FCC Form 854 is being revised to include several administrative-related questions that will enable the Commission to more efficiently process antenna structure registration. The additional questions relate to replacement towers; requirements to post local and national notice so that the public may have a meaningful opportunity to comment on the environmental effects of a proposed structure that requires registration; determining if the structure is located on federal land; allowing the applicant to select the type of painting and/or lighting it will utilize on the structure being registered; and collecting additional administrative information such as the type of entity that owns the structure, fax number, and count and ZIP code in which the structure is located.

OMB Control Number: 3060-0798.

Title: FCC Application for Radio Service Authorization: Wireless Telecommunications Bureau and Public Safety Homeland Security Bureau.

Form Number: FCC Form 601, Schedules D, I and M.

Type of Review: Revision of a currently approved collection.

Respondents: Individuals or households; business or other for-profit entities, not-for-profit institutions and state, local or tribal government.

Number of Respondents: 253,120 respondents; 253,120 responses.

Estimated Time per Response: 1.25 hours.

Frequency of Response: On occasion and every 10 years reporting requirements, third party disclosure requirement and recordkeeping requirement.

Obligation To Respond: Required to obtain or retain benefits. Statutory authority for this information collection is contained in 47 U.S.C. 151, 152, 154(i), 155(c), 157, 201, 202, 208, 214, 301, 302a, 303, 307, 308, 309, 310, 311, 314, 316, 319, 324, 331, 332, 333, 336, 534 and 535 of the Communications Act of 1934, as amended.

Total Annual Burden: 221,780 hours.

Total Annual Cost: $55,140,000.

Privacy Impact Assessment: Yes.

Nature and Extent of Confidentiality: There is no need for confidentiality. On a case-by-case basis, the Commission may be required to withhold from disclosure certain information about the location, character, or ownership of a historic property, including traditional religious sites.

Needs and Uses: The Commission is seeking OMB approval for a revision of this information collection in order to obtain the full three year approval from OMB. There is no change to the Commission's previous burden estimates.

FCC Form 601 is a consolidated, multi-part application form, or “long form”, that is used for general market-based licensing and site-by-site licensing for wireless telecommunications and public safety services filed through the Commission's Universal Licensing System (ULS). FCC Form 601 is composed of a main form that contains the administrative information and a series of schedules used for filing technical and other information. Respondents are encouraged to submit FCC Form 601 electronically and are required to do so when submitting FCC Form 601 to apply for an authorization for which the applicant was the winning bidder in a spectrum auction.

The data collected on the FCC Form 601 include the FCC Registration Number (FRN), which serves as a “common link” for all filings an entity has with the FCC. The Debt Collection Improvement Act of 1996 requires those entities filing with the Commission to use a FRN.

Additionally, the FCC Form 601 is used for auctionable services as they are implemented: FCC Form 601 is used to apply for a new authorization, or to amend a pending application for an authorization to operate a license wireless radio services. This includes Public Mobile Services, Personal Communications Services, General Wireless Communications Services, Private Land Mobile Radio Services, Broadcast Auxiliary Services, Fixed Microwave Services, Instructional Television Fixed Service (ITFS) and the Multipoint Distribution Service (MDS), Maritime Services (excluding ships), and Aviation Services (excluding aircraft). It may also be used to modify or renew an existing license, cancel a license, withdraw a pending application, obtain a duplicate license, submit required notifications, request an extension of time to satisfy construction requirements, or request an administrative update to an existing license (such as mailing address change, request a Special Temporary Authority (STA) or a Developmental License.

The Commission is now seeking OMB approval for a revision of the FCC Form 601, Schedules D, I and M to allow respondents the option to provide a pending File Number for an Antenna Structure Registration (ASR). Previously ULS would only accept a granted ASR registration number. This change is being made to allow applicants to file a FCC Form 601 application while the ASR application is going through the new environmental notice process as required by the Migratory Bird Order on Remand, WTB Docket Nos. 08-61 and 03-187. The entries for structure type are changing as a result of the Order as well.

OMB Control Number: 3060-0645.

Title: Sections 17.4, 17.48 and 17.49, Antenna Structure Registration Requirements.

Form Number: N/A.

Type of Review: Extension of a currently approved collection.

Respondents: Business or other for-profit entities, not-for-profit institutions and state, local or tribal government.

Number of Respondents: 2,500 respondents; 268,700 responses.

Estimated Time per Response: .1-.25 hours.

Frequency of Response: On occasion reporting requirement, recordkeeping requirement and third party disclosure requirement.

Obligation To Respond: Required to obtain or retain benefits. Statutory authority for this information collection is contained in 47 U.S.C. 154 and 303.

Total Annual Burden: 29,155 hours.

Total Annual Cost: $53,000.

Privacy Impact Assessment: N/A.

Nature and Extent of Confidentiality: There is no need for confidentiality. However, respondents may request materials or information submitted to the Commission be withheld from public inspection under 47 CFR 0.459 of the Commission's rules.

Needs and Uses: The Commission is seeking OMB approval for an extension of this information collection in order to obtain the full three year approval. The Commission has adjusted its burden and cost estimates in order to update the collection burdens necessary to implement a uniform registration process as well as safe and effective lighting procedures for owners of antenna structures.

Section 17.4 requires the owner of any proposed or existing antenna structure that requires notice of proposed construction to the Federal Aviation Administration (FAA) to register the structure with the Commission. Section 17.4 also requires antenna structure owners to provide their tenants with copies of the antenna structure registration. This includes those structures used as part of the stations licensed by the Commission for the transmission of radio energy, or to be used as part of a cable television head-end system. If a Federal Government antenna structure is to be used by a Commission licensee, the structure must be registered with the Commission. A registration number is issued to identify antenna structure owners in order to enforce the Congressionally-mandated provisions related to the owners.

Sections 17.48 and 17.49 contain reporting and recordkeeping requirements. Section 17.48 requires the notification of the FAA of any extinguishment or improper functioning of antenna structure lighting, and § 17.49 requires the recording of antenna structure light inspections in the owner's record.

The information collected is used by the Commission during investigations related to air safety and if the information were not collected, the Commission would not be able to adequately conduct these investigations. The information is also used to protect air safety by ensuring that pilots are adequately informed of lighting outages.

Federal Communications Commission.
Marlene H. Dortch,
Secretary, Office of the Secretary, Office of Managing Director.

[FR Doc. 2012-6542 Filed 3-16-12; 8:45 am]

BILLING CODE 6712-01-P